DEPARTMENT OF ENERGY

Federal Energy Regulatory Commission

Notice of Effectiveness of Exempt Wholesale Generator or Foreign Utility Company Status

| Docket Nos.
Danskammer Energy, LLC | EG14-59-000
Beebe 1B Renewable Energy, LLC | EG14-60-000
Selmer Farm, LLC | EG14-61-000
Mulberry Farm, LLC | EG14-62-000
Limon Wind III, LLC | EG14-63-000
Grand Ridge Energy Storage, LLC | EG14-64-000
CED White River Solar 2, L.L.C | EG14-65-000
CED White River Solar, L.L.C | EG14-66-000
RE Astoria, LLC | EG14-67-000
RE Astoria 2, LLC | EG14-68-000
Ector County Energy Center, LLC | EG14-69-000
Keechi Wind, LLC | EG14-70-000
Blackspring Ridge I Wind Project GP, Inc | FC14-14-000
East Durham Wind, LP | FC14-15-000

Take notice that during the months of August 2014, the status of the above-captioned entities as Exempt Wholesale Generators or Foreign Utility Companies became effective by operation of the Commission's regulations. 18 CFR 366.7(a).

Dated: September 11, 2014.
Kimberly D. Bose,
Secretary.

[FR Doc. 2014-22280 Filed 9-17-14; 8:45 am]

BILLING CODE 6717-01-P